DEPARTMENT OF THE INTERIOR

Fish and Wildlife Service

Habitat Conservation Plan for the Kern County Valley Floor, Kern County, CA

AGENCY: Fish and Wildlife Service, Interior.

ACTION: Notice of intent to prepare an Environmental Impact Statement (EIS) and notice of public meetings.

SUMMARY: Pursuant to the National Environmental Policy Act (NEPA), the Fish and Wildlife Service (Service), advises the public that we intend to gather information necessary to prepare, in coordination with the California Department of Fish and Game (DFG), California Energy Commission, the California Department of Conservation Division of Oil, Gas and Geothermal Resources, and the County of Kern, a joint Environmental Impact Report/Environmental Impact Statement (EIR/EIS) on the Kern County Valley Floor Habitat Conservation Plan (VFHCP) Project. The VFHCP is being prepared under Section 10(a)(1)(B) of the Federal Endangered Species Act of 1973, as amended (Act). The County of Kern intends to apply for a 30-year incidental take permit from the Service. The permit is needed to authorize the incidental take of threatened and endangered species that could occur as a result of public and private development.

The Service provides this notice to (1) Describe the proposed action and possible alternatives; (2) advise other Federal and State agencies, affected Tribes, and the public of our intent to prepare an EIR/EIS; (3) announce the initiation of a public scoping period; and (4) obtain suggestions and information on the scope of issues to be included in the EIR/EIS.

DATES: Written comments should be received on or before August 13, 2007. The public meeting will be held on Wednesday, July 25, 2007, from 4 p.m. to 6 p.m.

ADDRESSES: The public meeting will be held at the following location: Wednesday, July 25, 2007, at the First Floor Public Meeting Room, Kern County Public Services Building, 2700 M Street, Bakersfield, California 93301. Written comments submitted to Lori Rinek, Chief, Conservation Planning and Recovery Division, Fish and Wildlife Service, Sacramento Fish and Wildlife Office, 2800 Cottage Way, W-2605, Sacramento, CA 95825. Comments may also be sent by facsimile to 916-414-6713.

FOR FURTHER INFORMATION CONTACT: Lori Rinek, Chief, Conservation Planning and Recovery Division, Sacramento Fish and Wildlife Office, at 916-414-6600.

SUPPLEMENTARY INFORMATION:

Reasonable Accommodation

Persons needing reasonable accommodations in order to attend and participate in the public meeting should contact Lori Rinek at 916-414-6600 as soon as possible. In order to allow sufficient time to process requests, please call no later than one week before the public meeting. Information regarding this proposed action is available in alternative formats upon request.

Background

Section 9 of the Act and Federal regulations prohibit the “take” of wildlife species listed as endangered or threatened (16 U.S.C. 1538). The Act defines the term “take” as: to harass, harm, pursue, hunt, shoot, wound, kill, trap, capture, or collect listed species, or to attempt to engage in such conduct (16 U.S.C. 1532). Harm includes significant habitat modification or degradation that actually kills or injures listed wildlife by significantly impairing essential behavioral patterns, including breeding, feeding, and sheltering [50 CFR 17.3(c)]. Pursuant to section 10(a)(1)(B) of the Act, the Service may issue permits to authorize “incidental take” of listed species. “Incidental Take” is defined by the Act as take that is incidental to, and not the purpose of, carrying out an otherwise lawful activity. Regulations governing permits for threatened species and endangered species, respectively, are at 50 CFR 17.32 and 50 CFR 17.22.

Take of listed plant species is not prohibited under the Act and cannot be authorized under a section 10 permit. We propose to include plant species on the permit in recognition of the conservation benefits provided to them under a habitat conservation plan. All species included on an incidental take permit would receive assurances under the Service's “No Surprises” regulation [50 CFR 17.22(b)(5) and 17.32(b)(5)].

Species proposed for coverage in the HCP are species that are currently listed as federally threatened or endangered or have the potential to become listed during the life of this HCP and have some likelihood to occur within the project area. Should any of these unlisted covered wildlife species become listed under the Act during the term of the permit, take authorization for those species would become effective upon listing. There are 14 plant species and 11 animal species covered by the HCP which are known to occur within the area. Species may be added or deleted during the course of the development of the VFHCP based on further analysis, new information, agency consultation, and public comment. Currently the following listed plant and animal species are included in the plan: California jewelflower (Caulanthus californicus), Kern mallow (Eremalche kernensis), San Joaquin woolly-threads (Monolopia congdonii), Bakersfield cactus (Opuntia basilaris var. treleasei), San Joaquin adobe sunburst (Pseudobahia peirsonii), blunt-nosed leopard lizard (Gambelia sila), Buena Vista Lake shrew (Sorex ornatus relictus), Tipton kangaroo rat (Dipodomys nitratoides nitratoides), giant kangaroo rat (Dipodomys ingens), and San Joaquin kit fox (Vulpers macrotis mutica). Unlisted species proposed as covered species are the following: Heartscale (Atriplex cordulata), Bakersfield smallscale (Atriplex tularensis), Lost Hills crownscale (Atriplex vallicola), Slough thistle (Crisium crassicaule), Vasek's clarkia (Clarkia tembloriensis ssp. Calientensis), recurved larkspur (Delphinium recurvatum), Hoover's eriastrum (Eriastrum hooveri), striped adobe-lily (Fritillaria striata), Comanche Point layia (Layia leucopappa), California horned lizard (Phrynosoma coronatium frontale), San Joaquin whipsnake (Masticophis flagellum ruddocki), LeConte's thrasher (Toxostoma lecontei), San Joaquin antelope squirrel (Ammospermophilus nelsoni), short-nosed kangaroo rat (Dipodomys nitratoides brevinasus), and American badger (Taxidea taxus).

A Memorandum of Understanding (MOU) was prepared in 1989 between the U.S. Fish and Wildlife Service, U.S. Bureau of Land Management, California Department of Fish and Game, California Energy Commission, and the California Department of Conservation Division of Oil, Gas, and Geothermal Resources to establish the Kern County Valley Floor Habitat Conservation Plan. The proposed VFHCP utilizes a conservation strategy that would provide for preservation of the best remaining natural lands while still allowing economic growth to occur in the area. The VFHCP area consists of approximately 3,110 square miles within Kern County. The boundaries are Kings and Tulare Counties to the north, up to an approximate 2,000-foot elevation contour to the south and east, and San Luis Obispo County to the west. The VFHCP area would be divided into three habitat zone categories of red, green, and white based on habitat value. Red Zones contain the highest valued conservation habitat and represent the best contiguous blocks of undisturbed or lightly disturbed habitat. Green Zones are second highest in priority classification and contain some disturbance and are important for movement of species among the Red Zones. The White Zones contain the least amount of valuable habitat and least priority for conservation.

The VFHCP would result in take authorization for otherwise lawful actions, such as public and private development that may incidentally take or harm animal species or their habitats within the VFHCP area, in exchange for the assembly and management of a coordinated VFHCP area. Specifically these activities would include oil and gas development and maintenance projects, urban development and infrastructure, and development and maintenance of water delivery projects. The VFHCP would develop a program of take avoidance, minimization and mitigation, with an emphasis on preservation of the best remaining natural lands that will support viable populations and the continued existence of state and federally listed threatened or endangered species and California Species of Special Concern. The VFHCP creates a framework for complying with State and Federal listed threatened or endangered species regulations for specified species while accommodating future growth in the VFHCP area. The framework established by the VFHCP will allow for the assembly of contiguous parcels of habitat to provide viable habitat blocks and assist in the conservation of species.

Environmental Impact Statement/Report

The EIR/EIS will consider the proposed action (i.e., the issuance of a section 10(a)1(B) permit under the Act), no action (no project/no section 10 permit), and a reasonable range of alternatives. A detailed description of the proposed action and alternatives will be included in the EIR/EIS. The alternatives to be considered for analysis in the EIR/EIS may include: modified lists of covered species, land coverage areas, and intensity of future development. The EIR/EIS will also identify potentially significant impacts on biological resources, land use, air quality, water quality, water resources, economics, and other environmental resource issues that could occur directly or indirectly with implementation of the proposed action and alternatives. Different strategies for avoiding, minimizing and mitigating the impacts of incidental take may also be considered.

Environmental review of the EIR/EIS will be conducted in accordance with the requirements of NEPA (42 U.S.C. 4321 et. seq.), its implementing regulations (40 CFR parts 1500-1508), other applicable regulations, and Service procedures for compliance with those regulations. This notice is being furnished in accordance with 40 CFR 1501.7 and 1508.22 to obtain suggestions and information from other agencies and the public on the scope of issues and alternatives to be addressed in the EIR/EIS. The primary purpose of the scoping process is to identify important issues raised by the public related to the proposed action. Written comments from interested parties are invited to ensure that the full range of issues related to the permit application is identified. Comments will only be accepted in written form. All comments received, including names and addresses, will become part of the official administrative record and may be made available to the public.

Our practice is to make comments, including names, home addresses, home phone numbers, and e-mail addresses of respondents, available for public review. Individual respondents may request that we withhold their names and/or homes addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives of or officials of organizations or businesses, available for public inspection in their entirety.

Dated: July 6, 2007.
Ken McDermond,
Deputy Manager, California/Nevada Operations Office, Sacramento, California.

[FR Doc. E7-13528 Filed 7-11-07; 8:45 am]

BILLING CODE 4310-55-P